DEPARTMENT OF COMMERCE

International Trade Administration

[A-201-805]

Circular Welded Non-Alloy Steel Pipe and Tube From Mexico: Extension of Time Limit for the Preliminary Results of the Antidumping Duty New Shipper Review

AGENCY: Import Administration, International Trade Administration, Department of Commerce.

Effective Date: November 27, 2006.

FOR FURTHER INFORMATION CONTACT: John Drury or Patrick Edwards, AD/CVD Operations, Office 7, Import Administration, International Trade Administration, U.S. Department of Commerce, 14th Street and Constitution Avenue, NW., Washington DC 20230; telephone (202) 482-0195 or (202) 482-8029, respectively.

SUPPLEMENTARY INFORMATION:

Background

The U.S. Department of Commerce (“the Department”) is conducting an antidumping new shipper review of circular welded non-alloy steel pipe and tube (“pipe and tube”) from Mexico in response to a request by Conduit S.A. de C.V. (“Conduit”). This review covers shipments to the United States for the period November 1, 2005, through April 30, 2006, by Conduit. The Department received a timely request from Conduit in accordance with 19 CFR 351.214(c) for a new shipper review of the antidumping duty order on pipe and tube from Mexico. On July 10, 2006, the Department found that Conduit's request for review met all regulatory requirements set forth in 19 CFR 351.214(b) and initiated this new shipper review covering the period November 1, 2005, through April 30, 2006. See Circular Welded Non-Alloy Steel Pipe and Tube from Mexico: Initiation of New Shipper Antidumping Duty Review, 71 FR 38851 (July 10, 2006) (“Initiation Notice”). The preliminary results for this new shipper review are currently due no later than December 27, 2006.

Extension of Time Limits for Preliminary Results

Section 751(a)(2)(B)(iv) of the Tariff Act of 1930, as amended (“the Act”), and 19 CFR 351.214(i)(1) require the Department to issue the preliminary results of a new shipper review within 180 days after the date on which the new shipper review was initiated. The Department may, however, extend the deadline for completion of the preliminary results of a new shipper review from 180 days to 300 days if it determines that the case is extraordinarily complicated. See section 751(a)(2)(B)(iv) of the Act and 19 CFR 351.214(i)(2). The Department has determined that this new shipper review is extraordinarily complicated and that it is not practicable to complete the preliminary results within the current time limits.

As stated at initiation, the Department had concerns as to “whether Conduit's subject sale in this new shipper review constituted its first shipment of subject merchandise made to an unaffiliated customer in the United States* * *” See Memorandum to the File from The Team through Richard Weible, Office 7 Director, regarding Initiation of AD New Shipper Review: Circular Welded Non-Alloy Steel Pipe and Tube from Mexico, dated June 30, 2006, (“Initiation Checklist”) at 6. Accordingly, the Department requested entry documents from U.S. Customs and Border Protection (“CBP”) to further analyze this issue. The Department only recently received the requested documents from CBP relating to the entries of subject merchandise in question and it was necessary for the Department to gather additional information from CBP officials. Additionally, there are supplemental questionnaires still pending in this new shipper review. Based on the timing of this case and the additional information that must be gathered and carefully analyzed, the preliminary results of this new shipper review cannot be completed within the statutory time limit of 180 days.

Accordingly, the Department is extending the time limit for the completion of the preliminary results of the new shipper review of Conduit by 120 days until no later than April 26, 2007, which is 300 days from the date on which this new shipper review was initiated. The deadline for the final results of this new shipper review continues to be 90 days after the publication of the preliminary results, unless extended.

This notice is published pursuant to sections 751(a)(2)(B)(iv) and 777(i)(1) of the Act.

Dated: November 20, 2006.
Stephen J. Claeys,
Deputy Assistant Secretary for Import Administration.

[FR Doc. E6-20021 Filed 11-24-06; 8:45 am]

BILLING CODE 3510-DS-P